DEPARTMENT OF TRANSPORTATION

Coast Guard

[USCG 2000-7671]

Collection of Information Under Review by Office of Management and Budget (OMB): OMB Control Numbers 2115-0056, 2115-0092, and 2115-0540

AGENCY: Coast Guard, DOT.

ACTION: Request for comments.

SUMMARY: In compliance with the Paperwork Reduction Act of 1995, the Coast Guard intends to seek the approval of OMB for the renewal of three Information Collection Requests (ICRs). They comprise Various International Agreement Safety Certificates and Documents, Barge Fleet Facility Records, and Ports and Waterways Safety—Title 33 CFR Subchapter P. Before submitting the ICRs to OMB, the Coast Guard is seeking comments on the collections described below.

DATES: Comments must reach the Coast Guard on or before October 6, 2000.

ADDRESSES: You may mail comments to the Docket Management System (DMS) [USCG 2000-7671], U.S. Department of Transportation (DOT), room PL-401, 400 Seventh Street SW., Washington, DC 20590-0001, or deliver them to room PL-401, located on the Plaza Level of the Nassif Building at the same address between 9 a.m. and 5 p.m., Monday through Friday, except Federal holidays. The telephone number is 202-366-9329.

The DMS maintains the public docket for this request. Comments will become part of this docket and will be available for inspection or copying in room PL-401, located on the Plaza Level of the Nassif Building at the above address between 9 a.m. and 5 p.m., Monday through Friday, except Federal holidays. You may also access this docket on the Internet at http://dms.dot.gov.

Copies of the complete ICRs are available through this docket on the Internet at http://dms.dot.gov and also from Commandant (G-SII-2), U.S. Coast Guard Headquarters, room 6106 (Attn: Barbara Davis), 2100 Second Street SW., Washington, DC 20593-0001. The telephone number is 202-267-2326.

FOR FURTHER INFORMATION CONTACT: Barbara Davis, Office of Information Management, 202-267-2326, for questions on this document; Dorothy Walker, Chief, Documentary Services Division, U.S. Department of Transportation, 202-366-9330, for questions on the docket.

Request for Comments

The Coast Guard encourages interested persons to submit written comments. Persons submitting comments should include their names and addresses, identify this document [USCG 2000-7671], and give the reason for the comments. Please submit all comments and attachments in an unbound format no larger than 8½ by 11 inches, suitable for copying and electronic filing. Persons wanting acknowledgment of receipt of comments should enclose stamped, self-addressed postcards or envelopes.

Information Collection Request

1. Title: Various International Agreement Safety Certificates and Documents.

OMB Control Number: 2115-0056.

Summary: These 11 forms are due to the adoption of the International Convention for Safety of Life at Sea, 1974 (SOLAS). The 11 forms are evidence of compliance with this convention for U.S. vessels on international voyages. Without the proper forms, U.S. vessels could be detained in foreign ports.

Need: By Executive Order 12234, the Coast Guard is responsible for the issuance of certificates as required by SOLAS 1974. SOLAS applies to all mechanically propelled cargo vessels of 500 or more gross tons (GT), and to all mechanically propelled passenger vessels carrying more than 12 passengers that engage in international voyages. The Coast Guard will issue certificates after performing inspections or safety-management audits of the vessels' systems and determining that the vessels meet the applicable requirements. SOLAS and 46 CFR 2.01-25 list certificates and documents that the Coast Guard may issue to vessels.

Respondents: Owners and operators of vessels.

Frequency: On occasion.

Burden: The estimated burden is 38 hours a year.

2. Title: Barge Fleet Facility Records.

OMB Control Number: 2115-0092.

Summary: This collection of information requires the person in charge of a barge-fleeting facility to keep records of twice-daily inspections of barges' moorings and movements, and of movements of hazardous cargo in and out of the facility.

Need: The requirements of 33 CFR 165.803 aim at preventing barges from breaking away from fleeting facilities and drifting downstream out of control in the congested Lower Mississippi River.

Respondents: Operators of fleets of barges.

Frequency: On occasion.

Burden: The estimated burden is 30,618 hours a year.

3. Title: Ports and Waterways Safety—Title 33 CFR Subchapter P.

OMB Control Number: 2115-0540.

Summary: This collection of information allows the master, owner, or agent of a vessel affected by this rule to request deviation from the requirements governing navigation-safety equipment to the extent that there is no reduction in safety.

Need: 33 CFR Subchapter P allows any person directly affected by this rule to request a deviation from any of the requirements as long as it does not compromise safety. This collection enables the Coast Guard to evaluate the information the respondent supplies, to determine whether it justifies the request for deviation.

Respondents: Master, owner, or agent of a vessel.

Frequency: On occasion.

Burden: The estimated burden is 2,924 hours a year.

Dated: July 25 2000.
Daniel F. Sheehan,
Director of Information and Technology.

[FR Doc. 00-19919 Filed 8-4-00; 8:45 am]

BILLING CODE 4910-15-P